DEPARTMENT OF THE INTERIOR

National Park Service

[NPS-WASO-NRNHL-DTS#-37389; PPWOCRADI0, PCU00RP14.R50000]

National Register of Historic Places; Notification of Pending Nominations and Related Actions

AGENCY: National Park Service, Interior.

ACTION: Notice.

SUMMARY: The National Park Service is soliciting electronic comments on the significance of properties nominated before February 3, 2024, for listing or related actions in the National Register of Historic Places.

DATES: Comments should be submitted electronically by March 4, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 3,2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name(if applicable), Address/Boundary, City, Vicinity, Reference Number.

ARIZONA

Pinal County

Randolph Community Historic District, Generally bounded by Highway 287, East Randolph Rd., East Kleck Rd., and Union Pacific Railroad Right-of-Way, Coolidge, SG100010053

FLORIDA

Putnam County

First Congregational Church of Interlachen, 415 Washington Street, Interlachen, SG100010040

LOUISIANA

Acadia Parish

Shrine of Our Mother of Mercy Catholic Church and School, 707 Lyman Avenue, Rayne, SG100010045

Orleans Parish

Joe Victor's Saloon and Grocery, 1534 St. Louis Street, New Orleans, SG100010046

Rapides Parish

Old Pineville Town Hall, 731 Main Street, Pineville, SG100010047

St. Martin Parish

Emile Bergeron Farmstead, 4507-C Main Highway, Breaux Bridge, SG100010048

OHIO

Franklin County

Columbus Carriage Manufacturing Co.—Seagrave Co. Buildings

2000-2050 S High St., Columbus, SG100010052

Hamilton County

La Ventura Apartments, (Apartment Buildings in Ohio Urban Centers, 1870-1970 MPS), 700 Chalfonte Place, Cincinnati, MP100010054

OKLAHOMA

Jackson County

Altus Junior College Library, 221 North Park Lane, Altus, SG100010049

Tulsa County

Blevins, Charles and Bertha. House, 1838 North Norfolk Avenue, Tulsa, SG100010050

TENNESSEE

Shelby County

Cherokee Arms, (Residential Resources of Memphis MPS), 1508 Madison Avenue, Memphis, MP100010039

UTAH

Salt Lake County

Walker, George and Lida, House, 2480 E Walker Ln Holladay, UT 84117-7718, Holladay, SG100010060

Utah County

Bullock, Edward “Bob” and Mertilla, House, 1548 North Locust Lane, Provo, SG100010057

VERMONT

Grand Isle County

South Hero Village Historic District, US Route 2, Hill Road, South Street, South Hero, SG100010055

VIRGINIA

Albemarle County

Scottsville Tire Cord Plant, 800 Bird Street, Scottsville, SG100010041

Augusta County

Dutch Hollow Hanger Cemetery, 911 Wagon Shop Road, Middlebrook, SG100010042

A request to move has been received for the following resource(s):

LOUISIANA

St. John The Baptist Parish

Southern Pacific Steam Locomotive #745, Timbermill Museum, Garysville, MV98001077

Additional documentation has been received for the following resource(s):

TENNESSEE

Bradley County

Centenary Avenue Historic District (Additional Documentation), Roughly bounded by 8th, Harle, 13th and Ocoee Sts., Cleveland, AD93000172

Davidson County

Inglewood Place Historic District (Additional Documentation), Golf, Greenfield, Howard, Jakes, Katherine, Kennedy, Kirkland, McChesney, Riverside, Shelton & Stratford Aves., Nashville, AD16000117

Cane Ridge Cumberland Presbyterian Church (Additional Documentation), 13412 Old Hickory Blvd., Antioch vicinity, AD76001770

Fayette County

Petersburg Historic District (Additional Documentation), Roughly bounded by Church, Railroad, Gaunt Sts., and TN 50, Petersburg, AD85002753

Smith County

Smith County Courthouse, 211 Main Street North, Carthage, AD79002483

VIRGINIA

Fairfax INDEPENDENT CITY

City of Fairfax Historic District (Additional Documentation), Jct. of VA 236 and VA 123, Fairfax (Independent City), AD87001432

Fauquier County

Warrenton Historic District (Additional Documentation), Roughly Main, Waterloo, Alexandria, Winchester, Culpeper, High, Falmouth, Lee, and Horner Sts., Warrenton, AD83004243

Authority: Section 60.13 of 36 CFR part 60.

Sherry A. Frear,
Chief, National Register of Historic Places/National Historic Landmarks Program.

[FR Doc. 2024-03245 Filed 2-15-24; 8:45 am]

BILLING CODE 4312-52-P